DEPARTMENT OF COMMERCE

International Trade Administration

[A-570-836]

Glycine From the People's Republic of China: Continuation of Antidumping Duty Order

AGENCY: Import Administration, International Trade Administration, Department of Commerce.

SUMMARY: As a result of the determinations by the Department of Commerce (the Department) and the U.S. International Trade Commission (USITC) that revocation of the antidumping duty order on glycine from the People's Republic of China (PRC) would likely lead to continuation or recurrence of dumping and material injury to an industry in the United States, the Department is publishing a notice of continuation of this antidumping duty order.

DATES: Effective Date: September 19, 2011.

FOR FURTHER INFORMATION CONTACT: Patrick Edwards or Angelica Mendoza, AD/CVD Operations Office 7, Import Administration, International Trade Administration, U.S. Department of Commerce, 14th Street and Constitution Avenue, NW., Washington, DC 20230; telephone: (202) 482-8029 and (202) 482-3019, respectively.

SUPPLEMENTARY INFORMATION:

Background

On March 29, 1995, the Department published the antidumping duty order on glycine from the PRC. See Antidumping Duty Order: Glycine From the People's Republic of China, 60 FR 16116 (March 29, 1995). On October 1, 2010, the Department initiated the third sunset review of the antidumping duty order on glycine from the PRC pursuant to section 751(c) of the Tariff Act of 1930, as amended (the Act). See Initiation of Five-Year (“Sunset”) Review, 75 FR 60731 (October 1, 2010).

As a result of this sunset review, the Department determined that revocation of the antidumping duty order on glycine from the PRC would likely lead to continuation or recurrence of dumping and, therefore, notified the USITC of the magnitude of the margins likely to prevail should the order be revoked. See Notice of Final Results of Expedited Sunset Review of the Antidumping Duty Order: Glycine From the People's Republic of China, 76 FR 7150 (February 9, 2011) and accompanying Issues and Decision Memorandum.

On August 30, 2011, the USITC determined, pursuant to section 751(c) of the Act, that revocation of the antidumping duty order on glycine from the PRC would be likely to lead to a continuation or recurrence of material injury to an industry in the United Sates within a reasonably foreseeable time. See Glycine from China, 76 FR 55109 (September 6, 2011), and USITC Publication 4255 (August 2011), titled Glycine from China: Investigation No. 731-TA-718 (Third Review).

Scope of the Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS). Although the HTSUS subheading is provided for convenience and customs purposes, the written description of the merchandise under the order is dispositive.¹

¹ In a separate scope ruling, the Department determined that D(−) Phenylglycine Ethyl Dane Salt is outside the scope of the order. See Notice of Scope Rulings, 62 FR 62288 (November 21, 1997).

Continuation of the Order

As a result of the determinations by the Department and the USITC that revocation of the antidumping duty order on glycine would be likely to lead to continuation or recurrence of dumping and material injury to an industry in the United States, pursuant to section 751(d)(2) of the Act, the Department hereby orders the continuation of the antidumping duty order on glycine from the PRC.

U.S. Customs and Border Protection will continue to collect antidumping duty cash deposits at the rates in effect at the time of entry for all imports of subject merchandise. The effective date of the continuation of this order will be the date of publication in the Federal Register of this notice of continuation. Pursuant to section 751(c)(2) of the Act, the Department intends to initiate the next sunset review of this order not later than 30 days prior to the fifth anniversary of the effective date of continuation.

This five-year (sunset) review and this notice are in accordance with section 751(c) of the Act and published pursuant to section 777(i)(1) of the Act.

Dated: September 12, 2011.
Christian Marsh,
Acting Deputy Assistant Secretary for Import Administration.

[FR Doc. 2011-24008 Filed 9-16-11; 8:45 am]

BILLING CODE 3510-DS-P